DEPARTMENT OF TRANSPORTATION

Federal Aviation Administration

14 CFR Part 39

[Docket No. FAA-2013-0602; Directorate Identifier 2012-CE-010-AD; Amendment 39-17848; AD 2014-10-01]

RIN 2120-AA64

Airworthiness Directives; Vulcanair S.p.A. Airplanes

AGENCY: Federal Aviation Administration (FAA), Department of Transportation (DOT).

ACTION: Final rule.

SUMMARY: We are superseding airworthiness directive (AD) 2008-24-11 for Vulcanair S.p.A. Model P68 airplanes. This AD results from mandatory continuing airworthiness information (MCAI) originated by an aviation authority of another country to identify and correct an unsafe condition on an aviation product. The MCAI describes the unsafe condition as cracking and/or corrosion of the wing spar. We are issuing this AD to require actions to address the unsafe condition on these products.

DATES: This AD is effective June 18, 2014.

The Director of the Federal Register approved the incorporation by reference of a certain publication listed in the AD as of June 18, 2014.

The Director of the Federal Register approved the incorporation by reference of certain other publications listed in this AD as of January 2, 2009 (73 FR 72314, November 28, 2008).

ADDRESSES: You may examine the AD docket on the Internet at http://www.regulations.gov by searching for and locating it in Docket No. FAA-2013-0602; or in person at Document Management Facility, U.S. Department of Transportation, Docket Operations, M-30, West Building Ground Floor, Room W12-140, 1200 New Jersey Avenue SE., Washington, DC 20590.

For service information identified in this proposed AD, contact Vulcanair Airworthiness Office, Via G Pascoli, 7, 80026 Casoria, Italy; phone: +39 081 59 18 135; fax: +39 081 59 18 172; email: airworthiness@vulcanair.com; Internet: http://www.vulcanair.com/page-view.php?pagename=Service Bulletins. You may review copies of the referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2013-0602; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Mike Kiesov, Aerospace Engineer, FAA, Small Airplane Directorate, 901 Locust, Room 301, Kansas City, Missouri 64106; telephone: (816) 329-4144; fax: (816) 329-4090; email: mike.kiesov@faa.gov.

SUPPLEMENTARY INFORMATION:

Discussion

We issued a notice of proposed rulemaking (NPRM) to amend 14 CFR part 39 to add an AD that would apply to Vulcanair S.p.A. Model P68 airplanes. That NPRM was published in the Federal Register on July 9, 2013 (78 FR 41005), and proposed to supersede AD 2008-24-11, Amendment 39-15751 (73 FR 72314, November 28, 2008).

Since we issued AD 2008-24-11, Amendment 39-15751 (73 FR 72314, November 28, 2008), Vulcanair S.p.A. developed modification kits to repair certain lower spar caps. They also developed a maintenance manual supplement with special inspections of the wing and stabilator structures and new limitations for the wing structure.

The FAA also realized that the Models AP68TP300 “SPARTACUS” and AP68TP 600 “VIATOR” were inadvertently included in AD 2008-24-11.

The European Aviation Safety Agency (EASA), which is the Technical Agent for the Member States of the European Community, has issued AD No.: 2010-0051, dated March 25, 2010 (referred to after this as “the MCAI”), to correct an unsafe condition for the specified products. The MCAI states:

Safe Life Limits of the wing structure of P.68 Series aeroplanes have now been extended up to a maximum of 23 900 Flight Hours (FH), depending on the condition of the spar lower cap angles and on the embodiment of some modification kits. Furthermore, special inspections of the wing and stabilator structures, different from those previously required by EASA AD 2007-0027, have also been introduced. This change has been developed by Vulcanair under change No. MOD. P68/144 approved by EASA with approval No. 10028661on 02 February 2010.

Consequently this AD, which supersedes EASA AD 2007-0027, allows the implementation of the extended Safe Life Limits, in accordance with the instructions of Vulcanair SB 162, and requires the accomplishment of special inspections for the wing and stabilator structures, in accordance with the Aircraft Maintenance Manual (AMM) Supplement part number (P/N) NOR 10.771-52.

The MCAI can be found in the AD docket on the Internet at: http://www.regulations.gov/#!documentDetail;D=FAA-2013-0602-0002. EASA AD No.: 2010-0051, dated March 25, 2010; Vulcanair S.p.A. Maintenance Manual Supplement NOR10.771-52, dated March 1, 2010; Vulcanair S.p.A. Service Bulletin No. 162, dated March 1, 2010; Vulcanair S.p.A. Service Instruction No. 88, dated March 1, 2010; and Vulcanair S.p.A. Service Instruction No. 89, dated March 1, 2010, base the extended safe life limits on repetitive inspections and other required preventive and corrective actions that under certain conditions allow flight with known cracks in critical structure. The FAA's Small Airplane Directorate does not allow further flight with known cracks in critical structure without additional substantiating data. Advisory Circular (AC) 23-13A, Chapter 6, dated September 29, 2005, describes what additional data is required to allow flight with known cracks (found on the Internet at http://rgl.faa.gov/Regulatory_and_Guidance_Library/rgAdvisoryCircular.nsf).

Comments

We gave the public the opportunity to participate in developing this AD. We have considered the comment received. James Staley supports the NPRM (78 FR 41005, July 9, 2013).

Conclusion

We reviewed the relevant data, considered the comments received, and determined that air safety and the public interest require adopting the AD as proposed except for minor editorial changes. We have determined that these minor changes:

• Are consistent with the intent that was proposed in the NPRM (78 FR 41005, July 9, 2013) for correcting the unsafe condition; and

• Do not add any additional burden upon the public than was already proposed in the NPRM (78 FR 41005, July 9, 2013).

Costs of Compliance

We estimate that this AD will affect 67 products of U.S. registry. We also estimate that it will take about 60 work-hours per product to comply with the basic requirements of this AD. The average labor rate is $85 per work-hour.

Based on these figures, we estimate the cost of the AD on U.S. operators to be $341,700, or $5,100 per product.

We estimate that the wing replacement will take about 300 work-hours and require parts costing $443,406, for a cost of $468,906 per product. Wing replacement is only required when the wing structure exceeds the safe life established in this AD.

In addition, we estimate that any necessary follow-on actions for kit installation would take about 120 work-hours and require parts costing $2,595, for a cost of $12,795 per product. We have no way of determining the number of products that may need these actions, but it would affect no more than 10 airplanes. Therefore the highest fleet cost for these actions would be $127,950.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Introduction and Purpose of This Analysis

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA.

Final Regulatory Flexibility Analysis (FRFA)

Section 604 of the Act requires agencies to prepare a final regulatory flexibility analysis (FRFA) describing the impact of final rules on small entities.

Section 604(a) of the Act specifies the content of an FRFA.

Each FRFA must contain:

1. A statement of the need for, and objectives of, the rule;

2. A statement of the significant issues raised by the public comments in response to the initial regulatory flexibility analysis, a statement of the assessment of the agency of such issues, and a statement of any changes made in the proposed rule as a result of such comments;

3. The response of the agency to any comments filed by the Chief Counsel for Advocacy of the Small Business Administration in response to the proposed rule, and a detailed statement of any change made to the proposed rule in the final rule as a result of the comments;

4. A description of and an estimate of the number of small entities to which the rule will apply or an explanation of why no such estimate is available;

5. A description of the projected reporting, recordkeeping and other compliance requirements of the rule, including an estimate of the classes of small entities which will be subject to the requirement and the type of professional skills necessary for preparation of the report or record; and

6. A description of the steps the agency has taken to minimize the significant economic impact on small entities consistent with the stated objectives of applicable statutes, including a statement of the factual, policy, and legal reasons for selecting the alternative adopted in the final rule and why each one of the other significant alternatives to the rule considered by the agency which affect the impact on small entities was rejected.

1. Need for and Objective of This Final Rule

This AD results from MCAI originated by EASA and will supersede AD 2008-24-11, Amendment 39-15751 (73 FR 72314, November 28, 2008). AD 2008-24-11 established safe limits for the wing structure of Vulcanair P.68 series airplanes and requires repetitive inspection and repair of the wing and stabilator structures when the airplanes reach safe limits. Operation beyond existing conservative safe limits (with inspections and repair) is allowed pending establishment of final safe limits and a terminating action.

This AD significantly increases wing structure life limits (in a few cases requiring kit modification of the wing structure) but establishes a terminating action requiring replacement of the wing structure and wing fuselage attachments and bolts when new established safe limits are reached. Prior to the wing structure safe life limit being reached, this AD also requires special inspections of the wing structure with time limits, since new, of 6,000, 12,000, and 18,000 flight hours. After the first special inspection subsequent inspections must be every 6000 flight hours thereafter.

2. Response to Public Comments

There were no public comments on the initial regulatory flexibility analysis (IRFA).

3. Response to Comments by the Chief Counsel for Advocacy of the Small Business Administration

There were no comments made by the Chief Counsel for Advocacy.

4. A Description of and an Estimate of the Number of Small Entities to Which the Final Rule Will Apply

This AD will affect 67 U.S.-registered airplanes, of which 40 are owned by corporations, 8 by individuals, 2 by the Federal Government, and 17 by state governments.

Of the 48 airplanes owned by private entities, one trustee owns 3 airplanes, one trustee owns 2 airplanes, and two companies each own two airplanes. The remaining 39 airplanes are owned by 39 corporations and individuals. The FAA believes that all, or nearly all, of these private sector owners are privately held small firms, for which we cannot obtain financial records. We conclude that the AD will affect a substantial number of small entities.

5. Reporting, Record Keeping, and Other Compliance Requirements of the Final Rule

Small entities will incur no new reporting and record-keeping requirements as a result of this AD.

The additional requirements of this AD compared to AD 2008-24-11, Amendment 39-15751 (73 FR 72314, November 28, 2008) are the special wing structure inspections at 6,000, 12,000, and 18,000 flight hours; the terminating action to replace the wing structure when the wing structure safe limit is reached; and, for airplanes with serial numbers 1 through 256 for which a spar crack was found under previous Vulcanair SB65, replacement of the four main spar lower cap angles using Vulcanair Kit SB162. The costs of the required actions provided in this AD are as follows:

Requirement | Work-hours | Labor cost | Cost of materials | Total cost
Special inspections | 60 | $5,100 |  |
Wing structure replacement | 300 | 25,500 | 443,406 | 468,906
Replacement of lower spar cap angles with kit SB162 (S/N 1-256) | 120 | 10,200 | 2,595 | 12,795
Labor cost per hour is $85. The cost of crack repair is not provided in this AD.

The requirement to replace the wing structure, at considerable cost, occurs when the airplanes are old and have low value, often less than the cost of wing structure replacement. Therefore, in many cases airplane retirement is the least cost alternative, in which case the effective cost of the requirement is the loss in airplane value net of salvage value. The requirement to replace the lower spar cap angles applies to at most ten U.S.-registered airplanes and only if a front spar crack was previously found under SB No. 65. The expected present value cost of this requirement is minimal. The requirement for special inspections at 6,000, 12,000, and 18,000 flight hours applies to all AD-affected airplanes.

Economic Impact on Small Entities

Since we have no financial information of the privately held firms that constitute most of the operators of the affected airplanes, we assess the economic impact of this AD using airplane values. As the Vulcanair P.68 airplanes are not listed in the Aircraft Bluebook Price Digest, we undertook an internet search and found that the resale value of older P.68 airplanes, manufactured between 1975 and 1984 ranged from about $80,000 to $300,000. Many of these airplanes will be subject to the special inspection at 6,000 flight hours or even the special inspection at 12,000 flight hours. Using a significant economic impact criterion of 2 percent of airplane value, for operators of many of these airplanes there is a significant economic impact based on just one $5,100 inspection. Taking into account the present value cost of 2 to 3 possible future inspections and possible repair, as well as the present value cost of forced early retirement, there is a significant economic impact on most if not all of these operators.

We therefore conclude that this AD will have a significant impact on a substantial number of small firms.

6. Steps the Agency Has Taken To Minimize the Significant Economic Impact on Small Entities

Because of an unsafe condition that is likely to exist or develop on the airplanes identified in this AD, there is no feasible significant alternative to requiring the actions of this AD. Therefore, there are no steps that the Agency can take to minimize the significant economic impact on small entities.

Therefore, this AD will have a significant economic impact on a substantial number of small entities.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will have a significant economic impact on a substantial number of small entities under the criteria of the Regulatory Flexibility Act.

We prepared a summary of the costs to comply with this AD (and other information as included in the Regulatory Evaluation) and placed it in the AD Docket, which may be found on the Internet at: http://www.regulations.gov/#!docketDetail;D=FAA-2013-0602; or in person at the Document Management Facility, U.S. Department of Transportation, Docket Operations, M-30, West Building Ground Floor, Room W12-140, 1200 New Jersey Avenue SE., Washington, DC 20590.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15751 (73 FR 72314; November 28, 2008), and adding the following new AD:

2014-10-01 Vulcanair S.p.A.: Amendment 39-17848; Docket No. FAA-2013-0602; Directorate Identifier 2012-CE-010-AD.

(a) Effective Date

This airworthiness directive (AD) becomes effective June 18, 2014

(b) Affected ADs

This AD supersedes AD 2008-24-11, Amendment 39-15751 (73 FR 72314; November 28, 2008).

(c) Applicability

This AD applies to Vulcanair S.p.A. Models P 68, P 68B, P 68C, P 68C-TC, P 68 “OBSERVER,” P68TC “OBSERVER,” and P68 “OBSERVER 2” airplanes, serial numbers (S/N) 01 through 429, S/Ns 431 through 452, and S/N 454, certificated in any category.

(d) Subject

Air Transport Association of America (ATA) Code 57: Wings.

(e) Reason

This AD was prompted by mandatory continuing airworthiness information (MCAI) originated by an aviation authority of another country to identify and correct an unsafe condition on an aviation product. The MCAI describes the unsafe condition as cracking and/or corrosion of the wing spar. We are issuing this AD to detect and correct cracking and corrosion of the wing spars, which, if not corrected, could result in structural failure of the wing.

(f) Actions and Compliance

Unless already done, do the following actions specified in paragraphs (f)(1) through (f)(8) of this AD, to include all subparagraphs.

(1) Within 10 days after June 18, 2014] (the effective date of this AD), incorporate Vulcanair Aircraft, P68 Variants, Maintenance Manual Supplement NOR10.771-52, 1st Issue, dated March 1, 2010, into the FAA-approved maintenance program (maintenance manual) following Vulcanair Aircraft, P68 Variants, Mandatory Service Bulletin No. 162, dated March 1, 2010.

(2) Within 10 days after June 18, 2014 (the effective date of this AD), determine the safe life limit of the wing structure as follows:

(i) For all rows except rows (c) and (e) in table 1, of paragraph 1.3, of Vulcanair Aircraft, P68 Variants, Mandatory Service Bulletin No. 162, dated March 1, 2010, use the safe life limit specified in the appropriate row of the table; and

(ii) For rows (c) and (e) in table 1, of paragraph 1.3, of Vulcanair Aircraft, P68 Variants, Mandatory Service Bulletin No. 162, dated March 1, 2010, before further flight, you must modify the wing structure following Vulcanair Aircraft, P68 Variants, Mandatory Service Bulletin No. 162, dated March 1, 2010. After modification, use the safe life limit specified in the appropriate row of the table.

(3) Before reaching the life limit as determined in paragraph (f)(2) of this AD, before further flight, you must replace the wing structure and wing fuselage attachments and bolts with new ones. Do the replacement following Vulcanair Aircraft, P68 Variants, Maintenance Manual Supplement NOR10.771-52, 1st Issue, dated March 1, 2010, as specified in the instructions in WORK PROCEDURE, paragraph 2 of Vulcanair Aircraft, P68 Variants, Mandatory Service Bulletin No. 162, dated March 1, 2010.

(4) Do an initial inspection of the wing structure as specified in the instructions in paragraph 2.1 of Vulcanair Aircraft, P68 Variants, Mandatory Service Bulletin No. 162, dated March 1, 2010, at the applicable times as specified in paragraphs (f)(4)(i) and (f)(4)(ii). Repetitively thereafter inspect and replace the wing structure following the limitations in Vulcanair Aircraft, P68 Variants, Maintenance Manual Supplement NOR10.771-52, 1st Issue, dated March 1, 2010.

(i) For aircraft that have not exceeded the safe life limit hours time-in-service (TIS) on the wing structure as determined in paragraph (f)(2) of this AD: Before accumulating 6,000 hours TIS on the wing structure or within 100 hours TIS after June 18, 2014 (the effective date of this AD), whichever occurs later, follow Vulcanair Aircraft, P68 Variants, Maintenance Manual Supplement NOR10.771-52, 1st Issue, dated March 1, 2010. You may take “unless already done” credit for this inspection if inspected in compliance with AD 2008-24-11, Amendment 39-15751 (73 FR 72314; November 28, 2008); or

(ii) For aircraft that have exceeded the safe life limit hours TIS on the wing structure as determined in paragraph (f)(2) of this AD: Within 100 hours TIS after June 18, 2014 (the effective date of this AD), follow Vulcanair Aircraft, P68 Variants, Mandatory Service Bulletin No. 162, dated March 1, 2010.

(5) Before accumulating 8,500 hours TIS since new on the stabilator, within 500 hours TIS after January 2, 2009 (the effective date of AD 2008-24-11, Amendment 39-15751 (73 FR 72314; November 28, 2008)), or within 500 hours TIS from the last inspection done in compliance with AD 2008-24-11, whichever occurs later, do the initial inspection of the stabilator following paragraph 2.2 of Vulcanair Aircraft, P68 Variants, Maintenance Manual Supplement NOR10.771-52, 1st Issue, dated March 1, 2010, or Vulcanair Aircraft, P68 Variants, Mandatory Service Bulletin No. 120, Revision 1, dated June 7, 2006. Repetitively thereafter inspect the stabilator following the limitations in Vulcanair Aircraft, P68 Variants, Maintenance Manual Supplement NOR10.771-52, 1st Issue, dated March 1, 2010.

(6) If any cracks are found during the inspections required in paragraphs (f)(4) and/or (f)(5) of this AD, before further flight, modify the wing structure following Vulcanair Aircraft, P68 Variants, Mandatory Service Bulletin No. 162, dated March 1, 2010.

(7) For certain Model P 68 airplanes, AD 2009-24-03, Amendment 39-16090 (74 FR 62211, November 27, 2009) requires repetitive inspections of the front and rear wing spars for cracks and modification if cracks are found. The modification terminates the repetitive inspections required in AD 2009-24-03 and may be done regardless if cracks are found. The actions of AD 2009-24-03 are independent of this AD action and remain in effect.

(8) EASA AD No.: 2010-0051, dated March 25, 2010; Vulcanair Aircraft, P68 Variants, Maintenance Manual Supplement NOR10.771-52, 1st Issue, dated March 1, 2010; Vulcanair Aircraft, P68 Variants, Mandatory Service Bulletin No. 162, dated March 1, 2010; Vulcanair S.p.A. Service Instruction No. 88, dated March 1, 2010; and Vulcanair S.p.A. Service Instruction No. 89, dated March 1, 2010, base the required preventive and corrective actions on allowing flight with known cracks in critical structure. The FAA's Small Airplane Directorate does not allow further flight with known cracks in critical structure without additional substantiating data. Advisory Circular (AC) 23-13A, Chapter 6, dated September 29, 2005, describes what additional data is required to allow flight with known cracks (found on the Internet at http://rgl.faa.gov/Regulatory_and_Guidance_Library/rgAdvisoryCircular.nsf).

(g) Other FAA AD Provisions

The following provisions also apply to this AD:

(1) Alternative Methods of Compliance (AMOCs): The Manager, Standards Office, FAA, has the authority to approve AMOCs for this AD, if requested using the procedures found in 14 CFR 39.19. Send information to ATTN: Mike Kiesov, Aerospace Safety Engineer, FAA, Small Airplane Directorate, 901 Locust, Kansas City, Missouri 64106; telephone: (816) 329-4144; fax: (816) 329-4090; email: mike.kiesov@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI European Aviation Safety Agency (EASA) AD No. 2010-0051, dated March 25, 2010, for related information. You may examine the MCAI in the AD docket on the Internet at: http://www.regulations.gov/#!documentDetail;D=FAA-2013-0602-0002. You may also review Vulcanair S.p.A. Service Instruction No. 88, dated March 1, 2010; and Vulcanair S.p.A. Service Instruction No. 89, dated March 1, 2010, for related information, which may be found using the information found in paragraph (i).

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on June 18, 2014 (the effective date of this AD).

(i) Vulcanair Aircraft, P68 Variants, Mandatory Service Bulletin No. 162, dated March 1, 2010.

(ii) Vulcanair Aircraft, P68 Variants, Maintenance Manual Supplement NOR10.771-52, 1st Issue, dated March 1, 2010.

(4) The following service information was approved for IBR on January 2, 2009.

(i) Vulcanair Aircraft, P68 Variants, Mandatory Service Bulletin No. 120, Revision 1, dated June 7, 2006.

(ii) Reserved.

(5) For service information identified in this AD, contact Vulcanair Airworthiness Office, Via G Pascoli, 7, 80026 Casoria, Italy; phone: +39 081 59 18 135; fax: +39 081 59 18 172; email: airworthiness@vulcanair.com; Internet: http://www.vulcanair.com/page-view.php?pagename=Service Bulletins.

(6) You may review copies of the referenced service information at the FAA, Small Airplane Directorate, 901 Locust, Kansas City, Missouri 64106. For information on the availability of this material at the FAA, call (816) 329-4148.

(7) You may view this service information that is incorporated by reference at the National Archives and Records Administration (NARA). For information on the availability of this material at NARA, call 202-741-6030, or go to: http://www.archives.gov/federal-register/cfr/ibr-locations.html.

Issued in Kansas City, Missouri, on April 30, 2014.
Earl Lawrence,
Manager, Small Airplane Directorate, Aircraft Certification Service.

[FR Doc. 2014-10789 Filed 5-13-14; 8:45 am]

BILLING CODE 4910-13-P